DEPARTMENT OF COMMERCE

National Oceanic and Atmospheric Administration

RIN 0648-XL48

Fisheries of the Exclusive Economic Zone Off Alaska; Recordkeeping and Reporting Requirements; Public Workshops

AGENCY: National Marine Fisheries Service (NMFS), National Oceanic and Atmospheric Administration (NOAA), Commerce.

ACTION: Notice of workshops.

SUMMARY: NMFS, Alaska Region, and the U.S. Coast Guard, North Pacific Fisheries Training Center, will present workshops on eLandings, a consolidated electronic means of reporting production of commercial groundfish to multiple management agencies for Federal and State fisheries off the coast of Alaska, and 2009 recordkeeping and reporting requirements for the Alaska groundfish fisheries and Individual Fishing Quota (IFQ) fisheries.

DATES: The workshops will be held on November 20 and 21, 2008. See SUPPLEMENTARY INFORMATION for the times.

ADDRESSES: The workshops will be held in Seattle, WA. See SUPPLEMENTARY INFORMATION for the addresses.

FOR FURTHER INFORMATION CONTACT: Jennifer Hogan, 907-586-7462.

SUPPLEMENTARY INFORMATION: The workshops will include discussion of eLandings and 2009 recordkeeping and reporting requirements for Alaska groundfish fisheries and IFQ fisheries and instructions for completing and submitting required reports and logbooks. The workshops are scheduled as follows: 1. November 20, 2008, 9 a.m. to 5 p.m., Pacific Standard Time (PST), at the Silver Cloud Inn — Lake Union, Capital Hill Room, 1150 Fairview Ave N, Seattle, WA. NMFS will provide a demonstration of the new version of eLandings for at-sea catcher processors and training on how to submit daily production reports and fish tickets. 2. November 21, 2008, 10 a.m. to 11 a.m., PST, at Pacific Marine Fish Expo, Qwest Field Event Center, Room C2, 800 Occidental Ave S, Seattle, WA. NMFS and Coast Guard will discuss recordkeeping and reporting requirements and instructions for completing and submitting required reports and logbooks. Suggestions and recommendations on scheduling these workshops or on holding workshops at other times and places are welcome.

Special Accommodations

These workshops will be physically accessible to people with disabilities. Requests for sign language interpretation or other auxiliary aids should be directed to Jennifer Hogan, 907-586-7462, at least 10 working days prior to the meeting date.

Dated: October 22, 2008.
Emily H. Menashes,
Acting Director, Office of Sustainable Fisheries, National Marine Fisheries Service.

[FR Doc. E8-25706 Filed 10-27-08; 8:45 am]

BILLING CODE 3510-22-S